NEIGHBORHOOD REINVESTMENT CORPORATION

Special Board of Directors Meeting; Sunshine Act

Time and Date: 1 p.m., Tuesday, September 7, 2010.

Place: 1325 G Street, NW., Suite 800, Boardroom, Washington, DC 20005.

Status: Open.

Contact Person for More Information: Erica Hall, Assistant Corporate Secretary, (202) 220-2376; ehall@nw.org.

Agenda:

I. Call to Order.

II. Draft Policy Regarding Elected Officials.

III. Chief Executive Officer's Update.

IV. NHSA Update.

V. Resolutions for Approval.

VI. Adjournment.

Erica Hall,
Assistant Corporate Secretary.

[FR Doc. 2010-24124 Filed 9-27-10; 8:45 am]

BILLING CODE 7570-02-M